DEPARTMENT OF HEALTH AND HUMAN SERVICES

[Document Identifier: OS-0937-0200; 30-day notice]

Agency Information Collection Request; 30-Day Public Comment Request

Agency: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the OS OMB Desk Officer all comments must be faxed to OMB at (202) 395-6974.

Title of the Collection—HHS Payment Management System Forms -Extension-OMB No. 0937-0200—Assistant Secretary for Administration and Management (ASAM) -Program Support Center (PSC)—Division of Payment Management (DPM).

Abstract: The Division of Payment Management (DPM) is requesting a three year extension of the HHS Payment Management System Forms. Treasury regulations at 31 CFR part 205 and OMB Circulars A-102 and A-110 require advances of Federal funds to be scheduled as closely as possible to the grantee's disbursement needs and payment methods should allow for monthly, bi-weekly or more frequent payments in support of this requirement. The PSC-270 is used by grantees to obtain grant funds. The PSC-272 form is used to monitor federal cash advances to grantees and obtain Federal cash disbursement data. The forms are designed to provide essential cash management information, assist the grantee in meeting accountability requirements, and ensure compatibility between data in the Payment Management System (PMS) operated by DPM and the grantee organization's records.

The PSC-270 form is used monthly by approximately 210 HHS grantees to obtain grant funds and is used in lieu of the SF-270. The computerized PSC-272 form is utilized quarterly by approximately 22,240 grantees of grant awards from HHS and other Federal agencies that are paid through DPM. The forms are completed by State, local and tribal governments, profit and nonprofit businesses and institutions receiving grants from HHS and other Federal agencies serviced by the Division of Payment Management.

Estimated Annualized Burden Hours
Forms | Type of respondent | Number of respondents | Number of responses per respondent | Average burden hours per response (in hours) | Total burden hours
PSC-272 | Quarterly | 22,240 | 4 | 3 | 266,880
PSC-270 | Monthly | 210 | 12 | 15/60 | 630
Total |  |  |  |  | 267,510

Dated: 09/10/2007.
Alice Bettencourt,
Office of the Secretary, Paperwork Reduction Act Reports Clearance Officer.

[FR Doc. E7-18401 Filed 9-18-07; 8:45 am]

BILLING CODE 4151-17-P